INTERNATIONAL TRADE COMMISSION

[Investigation No. 731-TA-298 (Fifth Review)]

Porcelain-on-Steel Cooking Ware From China; Termination of Five-Year Review

AGENCY: United States International Trade Commission.

ACTION: Notice.

SUMMARY: The Commission instituted the subject five-year review on July 1, 2021 (86 FR 35127) to determine whether revocation of the antidumping duty order on porcelain-on-steel cooking ware from China would be likely to lead to continuation or recurrence of material injury. On September 29, 2021, the Department of Commerce issued notice that it was revoking the order effective August 11, 2021, because no domestic interested party filed a timely notice of intent to participate. Accordingly, the subject review is terminated.

DATES: August 11, 2021 (effective date of revocation of the order).

FOR FURTHER INFORMATION CONTACT: Lawrence Jones (202-205-3358), Office of Investigations, U.S. International Trade Commission, 500 E Street SW, Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its internet server (https://www.usitc.gov).

Authority: This review is being terminated under authority of title VII of the Tariff Act of 1930 and pursuant to section 751(c) of the Tariff Act of 1930 (19 U.S.C. 1675(c)). This notice is published pursuant to § 207.69 of the Commission's rules (19 CFR 207.69).

By order of the Commission.
Issued: October 15, 2021.
Lisa Barton,
Secretary to the Commission.

[FR Doc. 2021-22833 Filed 10-19-21; 8:45 am]

BILLING CODE 7020-02-P